DEPARTMENT OF ENERGY

Federal Energy Regulatory Commission

Combined Notice of Filings #1

Take notice that the Commission received the following electric rate filings:

Docket Numbers: ER11-3670-001.

Applicants: ArcelorMittal USA LLC.

Description: Notice of Change in Status of ArcelorMittal USA LLC.

Filed Date: 2/27/13.

Accession Number: 20130227-5191.

Comments Due: 5 p.m. ET 3/20/13.

Docket Numbers: ER13-998-000.

Applicants: PJM Interconnection, L.L.C.

Description: Original Service Agreement No. 3503; Queue No. X4-031 to be effective 2/1/2013.

Filed Date: 2/27/13.

Accession Number: 20130227-5135.

Comments Due: 5 p.m. ET 3/20/13.

Docket Numbers: ER13-999-000.

Applicants: New England Power Company.

Description: Rate Schedule CRA-NEP-04—Cost Allocation Agreement with NSTAR Electric Co. to be effective 2/28/2013.

Filed Date: 2/27/13.

Accession Number: 20130227-5136.

Comments Due: 5 p.m. ET 3/20/13.

Docket Numbers: ER13-1000-000.

Applicants: Niagara Mohawk Power Corporation, New York Independent System Operator, Inc.

Description: LGIA No. 1954 between NiMo and Indeck-Olean Limited Partnership to be effective 12/26/2012.

Filed Date: 2/27/13.

Accession Number: 20130227-5174.

Comments Due: 5 p.m. ET 3/20/13.

Docket Numbers: ER13-1001-000.

Applicants: Pacific Gas and Electric Company.

Description: Filing to Extend PWRPA Interconnection and WDT Service Agreements to be effective 5/1/2013.

Filed Date: 2/27/13.

Accession Number: 20130227-5176.

Comments Due: 5 p.m. ET 3/20/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2013.
Nathaniel J. Davis, Sr.,
Deputy Secretary.

[FR Doc. 2013-05269 Filed 3-6-13; 8:45 am]

BILLING CODE 6717-01-P